DEPARTMENT OF TRANSPORTATION

Federal Aviation Administration

14 CFR Part 39

[Docket No. 2001-SW-36-AD; Amendment 39-12467; AD 2001-18-51]

RIN 2120-AA64

Airworthiness Directives; Eurocopter France Model SA.315B, SA.316C, SA 3180, SA 318B, SA 318C, SA.319B, SE.3160, and SA.316B Helicopters

AGENCY: Federal Aviation Administration, DOT.

ACTION: Final rule; request for comments.

SUMMARY: This document publishes in the Federal Register an amendment adopting Airworthiness Directive (AD) 2001-18-51, which was sent previously to all known U.S. owners and operators of Eurocopter France (ECF) Model SA.315B, SA.316C, SA 3180, SA 318B, SA 318C, SA.319B, SE.3160, and SA.316B helicopters by individual letters. This AD requires, within 10 hours time-in-service (TIS), inspecting the magnetic drain plug and the main gear box (MGB) filter for a rust-colored deposit, inspecting the MGB to determine the angular displacement on the MGB output flange, and periodically examining oil samples. If a rust-colored deposit is found on the drain plug or filter, if the oil is rust-colored, or if the angular displacement is 1 millimeter (0.039 inch) or more, this AD requires replacing the MGB with an airworthy MGB before further flight. Repairing or overhauling the gearbox, or re-identifying certain gearboxes that have already been appropriately overhauled, is terminating action for the requirements of this AD. This AD is prompted by an accident of an ECF Model SA.315B helicopter that lost power to the tail rotor. The loss of power to the tail rotor was due to wear of the splines of the output bevel drive pinion in the MGB. The actions specified by this AD are intended to prevent a loose splined coupling, spline wear, loss of power to the tail rotor, and subsequent loss of control of the helicopter.

DATES: Effective October 31, 2001, to all persons except those persons to whom it was made immediately effective by Emergency AD 2001-18-51, issued on August 31, 2001, which contained the requirements of this amendment.

The incorporation by reference of certain publications listed in the regulations is approved by the Director of the Federal Register as of October 31, 2001.

Comments for inclusion in the Rules Docket must be received on or before December 17, 2001.

ADDRESSES: Submit comments in triplicate to the Federal Aviation Administration (FAA), Office of the Regional Counsel, Southwest Region, Attention: Rules Docket No. 2001-SW-36-AD, 2601 Meacham Blvd., Room 663, Fort Worth, Texas 76137. You may also send comments electronically to the Rules Docket at the following address: 9-asw-adcomments@faa.gov.

The applicable service information may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Uday Garadi, Aviation Safety Engineer, FAA, Rotorcraft Directorate, Rotorcraft Standards Staff, Fort Worth, Texas 76193-0110, telephone (817) 222-5123, fax (817) 222-5961.

SUPPLEMENTARY INFORMATION: On August 31, 2001, the FAA issued Emergency AD 2001-18-51, for ECF Model SA.315B, SA.316C, SA 3180, SA 318B, SA 318C, SA.319B, SE.3160, and SA.316B helicopters, which requires, within 10 hours TIS, inspecting the magnetic drain plug and the MGB filter for a rust-colored deposit, inspecting the MGB to determine the angular displacement on the MGB output flange, and periodically examining oil samples. If a rust-colored deposit is found on the drain plug or filter, if the oil is rust-colored, or if the angular displacement is 1 millimeter (0.039 inch) or more, the AD requires replacing the MGB with an airworthy MGB before further flight. Repairing or overhauling the gearbox, or re-identifying certain gearboxes that have already been appropriately overhauled, is terminating action for the requirements of the AD. That action was prompted by an accident of an ECF Model SA.315B helicopter that lost power to the tail rotor. The loss of power to the tail rotor was due to wear of the splines of the output bevel drive pinion in the MGB. An overhaul and repair shop used an unauthorized sealant that led to spline wear. This condition, if not corrected, could result in a loose splined coupling, spline wear, loss of power to the tail rotor, and subsequent loss of control of the helicopter.

Eurocopter has issued Alert Service Bulletin Nos. 05.40 and 05.99, both dated August 7, 2001, which specify checking the wear rate of the lower pinion-to-MGB vertical shaft bevel gear housing coupling splines. The Direction Generale de L'Aviation Civile (DGAC), which is the airworthiness authority for France, classified these service bulletins as mandatory and issued ADs T2001-366-059(A), T2001-367-062(A), and T2001-368-045(A), all dated August 13, 2001, to ensure the continued airworthiness of these helicopters in France.

Since the unsafe condition described is likely to exist or develop on other ECF Model SA.315B, SA.316C, SA 3180, SA 318B, SA 318C, SA.319B, SE.3160, and SA.316B helicopters of the same type designs, the FAA issued Emergency AD 2001-18-51 to prevent a loose splined coupling, spline wear, loss of power to the tail rotor, and subsequent loss of control of the helicopter. The AD requires the following at specified hours TIS:

• If appropriate, re-identify the MGB. Appropriately re-identifying certain MGBs is terminating action for the requirements of this AD.

• Inspect the magnetic drain plug and the MGB filter for a rust-colored deposit. Inspect the MGB to determine the angular displacement on the MGB output flange.

• If a rust-colored deposit is found or if the angular displacement is 1 millimeter (0.039 inch) or more, replace the MGB with an airworthy MGB before further flight.

• Take an oil sample and drain the MGB. If the oil is rust-colored, replace the MGB with an airworthy MGB before further flight. If the oil is not rust-colored, take a sample for future comparison.

• At each oil change, take a sample and compare it to the previous sample. If the oil is rust-colored, replace the MGB with an airworthy MGB before further flight. If the color is unchanged, store the last sample for future comparison.

The actions must be accomplished in accordance with the alert service bulletins described previously. The short compliance time involved is required because the previously described critical unsafe condition can adversely affect the structural integrity and controllability of the helicopter. Therefore, the actions described previously are required within 10 hours TIS, and this AD must be issued immediately.

Since it was found that immediate corrective action was required, notice and opportunity for prior public comment thereon were impracticable and contrary to the public interest, and good cause existed to make the AD effective immediately by individual letters issued on August 31, 2001, to all known U.S. owners and operators of ECF Model SA.315B, SA.316C, SA 3180, SA 318B, SA 318C, SA.319B, SE.3160, and SA.316B helicopters. These conditions still exist, and the AD is hereby published in the Federal Register as an amendment to 14 CFR 39.13 to make it effective to all persons.

The FAA estimates that 73 helicopters of U.S. registry will be affected by this AD, that it will take approximately 2.5 work hours per helicopter to accomplish the required actions, and the average labor rate is $60 per work hour. Required parts will cost approximately $15 per helicopter. Based on these figures, the total cost impact of the AD on U.S. operators is estimated to be $12,045.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2001-SW-36-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2001-18-51 Eurocopter France: Amendment 39-12467. Docket No. 2001-SW-36-AD.

Applicability: Model SA.315B, SA.316C, SA 3180, SA 318B, SA 318C, SA.319B, SE.3160, and SA.316B main gearbox assembly (MGB), part number 319A62-00-000-1, 319A62-00-000-2, 319A62-00-000-3, 319A62-00-000-4, with one of the following serial-numbered MGBs installed, certificated in any category:

10007, 3-10204, 3-10206, 3-10272, 3-10335, 3-10377, 3-10382, 3-10424, 3-10434, 3-10437, 3-10441, 3-10490, 3-10574, 3-10603, 3-10640, 3-10663, 3-10676, 3-10709, 3-10710, 3-10712, 3-10731, 3-10751, 3-10753, 3-10766, 3-10804, 3-10814, 3-10853, 3-10902, 3-10927, 3-10943, 3-10950, 3-10951, 3-10988, 3-10989, 3-110, 3-11008, 3-11026, 3-11104, 3-11124, 3-11190, 3-11210, 3-11232, 3-11238, 3-11301, 3-11376, 3-11427, 3-11511, 3-11537, 3-11565, 3-11571, 3-11583, 3-11607, 3-11608, 3-11662, 3-11691, 3-11694, 3-11698, 3-11735, 3-11775, 3-2115, 3-2174, 3-2217, 3-2218, 3-2263, 3-2267, 3-2279, 3-2286, 3-2300, 3-2303, 3-2305, 3-2307, 3-2322, 3-2334, 3-2345, 3-2346, 3-2347, 3-2348, 3-2352, 3-2353, 3-2354, 3-2355, 3-2372, 3-2373, 3-2374, 3-2391, 3-2399, 3-2400, 3-2410, 3-2411, 3-2413, 3-2414, 3-2415, 3-2424, 3-2442, 3-2445, 3-2470, 3-2472, 3-2481, 3-2484, 3-2495, 3-2500, 3-2503, 3-2515, 3-2545, 3-2549, 3-2555, 3-2573, 3-2574, 3-2582, 3-2584, 3-2589, 3-2591, 3-2594, 3-2596, 3-2597, 3-2616, 3-2688, 3-2736, 3-2741, 3-2751, 3-2764, 3-2769, 3-2782, 3-2783, 3-2818, 3-2820, 3-2850, 3-2852, 3-2871, 3-2891, 3-2896, 3-2917, 3-2927, 3-2934, 3-2943, 3-2954, 3-2955, 3-2960, 3-3001, 3-3090, 3-3094, 3-3110, 3-3131, 3-3137, 3-3144, 3-3166, 3-3179, 3-3195, 3-3217, 3-3218, 3-3221, 3-3232, 3-3251, 3-3265, 3-3279, 3-3283, 3-3286, 3-3299, 3-3317, 3-3318, 3-3319, 3-3329, 3-3355, 3-3358, 3-3372, 3-3375, 3-3633, 3-431, 3-536.

M-2013, M-2061, M-2072, M-2079, M-2139, M-2144, M-2145.

NT-3378, NT-3380, NT-3404, NT-3423, NT-3429, NT-3443, NT-3447, NT-3449, NT-3467, NT-3474, NT-3490, NT-3502, NT-3509, NT-3539, NT-3552, NT-3560, NT-3586, NT-3590, NT-3620, NT-3653, NT-3671, NT-3676, NT-3722, NT-3724, NT-3729.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (f) of this AD. The request should include an assessment of the effect of the modification, alteration, or repair on the unsafe condition addressed by this AD; and if the unsafe condition has not been eliminated, the request should include specific proposed actions to address it.

Compliance: Required as indicated, unless accomplished previously.

To prevent a loose splined coupling, spline wear, loss of power to the tail rotor, and subsequent loss of control of the helicopter, accomplish the following:

(a) Within 10 hours time-in-service (TIS), re-identify the MGB, if appropriate, in accordance with the Accomplishment Instructions, paragraph 2.C., of Eurocopter France Alert Service Bulletin No. 05.40 or 05.99, dated August 7, 2001 (ASB), as applicable. Re-identifying a MGB in accordance with the Accomplishment Instructions, paragraph 2.C., of the applicable ASB is terminating action for the requirements of this AD.

(b) Within 10 hours TIS, accomplish the following procedures in accordance with the specified paragraphs of the Accomplishment Instructions of the ASB, except this AD does not require you to return the MGB to PILATUS.

(1) Inspect the magnetic drain plug and the MGB oil filter for a rust-colored deposit in accordance with paragraph 2.B.1.a) of the applicable ASB. If a rust-colored deposit is found, replace the MGB with an airworthy MGB before further flight.

(2) Inspect the angular displacement on the MGB output flange in accordance with paragraph 2.B.1.b) of the applicable ASB. If the angular displacement is 1 millimeter (0.039 inch) or more, replace the MGB with an airworthy MGB before further flight.

(3) Take an oil sample and drain the MGB in accordance with paragraph 2.B.1.c) of the applicable ASB. If the oil is rust-colored, replace the MGB with an airworthy MGB before further flight. If the oil is not rust-colored, store the sample.

(c) Between 40 and 50 hours TIS, accomplish the requirements of paragraph (b)(2) of this AD and take an oil sample from the MGB. If the oil is rust-colored, replace the MGB with an airworthy MGB before further flight. If the oil is not rust-colored, store the last sample.

(d) At intervals not to exceed 10 hours TIS, accomplish the requirements of paragraph (b)(1) of this AD.

(e) At each oil change, accomplish the requirements of paragraphs (b) and (c) of this AD, and compare the oil sample to the previous sample. If the oil is rust-colored, replace the MGB with an airworthy MGB before further flight. If the color is unchanged, store the last sample for future comparison.

(f) An alternative method of compliance or adjustment of the compliance time that provides an acceptable level of safety may be used if approved by the Manager, Regulations Group, Rotorcraft Directorate, FAA. Operators shall submit their requests through an FAA Principal Maintenance Inspector, who may concur or comment and then send it to the Manager, Regulations Group, Rotorcraft Directorate.

Note 2: Information concerning the existence of approved alternative methods of compliance with this AD, if any, may be obtained from the Regulations Group.

(g) Special flight permits may be issued in accordance with 14 CFR 21.197 and 21.199 to operate the helicopter to a location where the requirements of this AD can be accomplished.

(h) The modifications and inspections shall be done in accordance with the Accomplishment Instructions, paragraphs 2.B.1.a), 2.B.1.b), 2.B.1.c), and 2.C, of Eurocopter France Alert Service Bulletin No. 05.40 or 05.99, as applicable. Both service bulletins are dated August 7, 2001. This incorporation by reference was approved by the Director of the Federal Register in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas; or at the Office of the Federal Register, 800 North Capitol Street, NW., suite 700, Washington, DC.

(i) This amendment becomes effective on October 31, 2001, to all persons except those persons to whom it was made immediately effective by Emergency AD 2001-18-51, issued August 31, 2001, which contained the requirements of this amendment.

Note 3: The subject of this AD is addressed in Direction Generale de L'Aviation Civile (France) ADs T2001-366-059(A), T2001-367-062(A), and T2001-368-045(A), all dated August 13, 2001.

Issued in Fort Worth, Texas, on October 3, 2001.
Mark R. Schilling,
Acting Manager, Rotorcraft Directorate, Aircraft Certification Service.

[FR Doc. 01-25694 Filed 10-15-01; 8:45 am]

BILLING CODE 4910-13-U